DEPARTMENT OF ENERGY

Federal Energy Regulatory Commission

[Project No. 516-505]

Dominion Energy South Carolina, Inc.; Notice of Availability of Environmental Assessment

In accordance with the National Environmental Policy Act of 1969 and the Federal Energy Regulatory Commission (Commission) regulations, 18 CFR part 380 (Order No. 486, 52 FR 47897), the Office of Energy Projects has reviewed an application submitted by Dominion Energy South Carolina, Inc. (licensee) to allow the Joint Municipal Water and Sewer Commission (JMWSC), the use of Saluda Hydroelectric (FERC No. 516) project lands and waters to construct and operate a component of a raw water withdrawal facility. Once constructed, JMWSC would initially withdraw 10 million gallons of water per day (mgd) from Lake Murray and increase its withdrawals over time, up to 50 mgd, as water supply needs dictate. The Saluda project is located on the Saluda River in Richland, Lexington, Saluda, and Newberry counties, South Carolina. Once constructed, the raw water withdrawal facility itself will be located in Lexington County. The project does not occupy federal lands.

An Environmental Assessment (EA) has been prepared as part of Commission staff's review of the proposal. This EA contains Commission staff's analysis of the potential environmental effects of the proposed action and concludes that approval of the proposal, with appropriate environmental measures, would not constitute a major federal action significantly affecting the quality of the human environment.

The EA may be viewed on the Commission's website at http://www.ferc.gov using the “eLibrary” link. Enter the docket number excluding the last three digits in the docket number field to access the document. At this time, the Commission has suspended access to the Commission's Public Reference Room due to the proclamation declaring a National Emergency concerning the Novel Coronavirus Disease (COVID-19), issued by the President on March 13, 2020. You may also register online at http://www.ferc.gov/docs-filing/esubscription.asp to be notified via email of new filings and issuances related to this or other pending projects. For assistance, call 1-866-208-3676 or email FERCOnlineSupport@ferc.gov, for TTY, call (202) 502-8659.

For further information, contact Joy Kurtz at (202) 502-6760 or by email at joy.kurtz@ferc.gov.

Dated: July 20, 2021.
Debbie-Anne A. Reese,
Deputy Secretary.

[FR Doc. 2021-15862 Filed 7-23-21; 8:45 am]

BILLING CODE 6717-01-P